DEPARTMENT OF ENERGY

Federal Energy Regulatory Commission

[Project No. 11858-002]

Elsinore Municipal Water District and Nevada Hydro Company, Inc.; Notice Extending Deadline for Submitting Additional Study Requests

March 12, 2004.

Take notice that the date for filing study requests has been extended for the Lake Elsinore Advanced Pumped Storage Project, FERC Project No. 11858-02.

On February 2, 2004, Elsinore Municipal Water District and the Nevada Hydro Company, Inc. filed a license application for a major unconstructed project that would be located on Lake Elsinore and San Juan Creek, in the Town of Lake Elsinore, Riverside County, California.

In a notice tendering the license application for filing and soliciting additional study requests issued February 10, 2004, the Commission set the deadline for filing additional study requests as April 2, 2004. However, some of the consulted parties were not provided with a copy of the application by the applicant as set forth in the Commission's regulations.¹ Because the applicant will have just finished mailing the application to the consulted agencies and tribes as of March 12, 2004, we are extending the deadline for filing additional study requests to give all consulted parties a full 60-day period to review the application.

¹ See 18 CFR 4.38(d)(1).

The deadline for filing additional study requests and requests for cooperating agency status is now May 11, 2004.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

Linda Mitry,
Acting Secretary.

[FR Doc. E4-613 Filed 3-17-04; 8:45 am]

BILLING CODE 6717-01-P